DEPARTMENT OF ENERGY

Federal Energy Regulatory Commission

[Docket No. EG04-26-000, et al.]

Invenergy TN LLC, et al.; Electric Rate and Corporate Filings

January 9, 2004.

The following filings have been made with the Commission. The filings are listed in ascending order within each docket classification.

1. Invenergy TN LLC

[Docket No. EG04-26-000]

Take notice that on December 31, 2003, Invenergy TN LLC, (Invenergy) having a business address of 233 South Wacker Drive, Suite 9450, Chicago, Illinois, 60606, filed with the Federal Energy Regulatory Commission an application for determination of exempt wholesale generator status pursuant to part 365 of the Commission's regulations.

Invenergy states that it is a Delaware limited liability company engaged directly and exclusively in the business of owning and operating a 27 MW wind-powered generation facility to be constructed in Anderson County, Tennessee and electric energy produced by the facility will be sold exclusively at wholesale.

Comment Date: January 21, 2004.

2. Shuweihat CMS International Power Company

[Docket No. EG04-27-000]

Take notice that on December 31, 2003, Shuweihat CMS International Power Company (Shuweihat CMS), Suite 802, Al Ghaith Tower, Hamdan Street, Abu Dhabi, United Arab Emirates, filed with the Federal Energy Regulatory Commission an application for determination of exempt wholesale generator status pursuant to part 365 of the Commission's regulations. Shuweihat CMS states that it is a private joint stock company that will engage directly or indirectly and exclusively in the business of owning and/or operating eligible facilities in the Emirate of Abu Dhabi, United Arab Emirates and selling electric energy at wholesale.

Shuweihat CMS further states that it proposes to own an approximately 1,500 megawatt combined-cycle electric and steam cogeneration facility located in Shuweihat, Abu Dhabi, United Arab Emirates.

Comment Date: January 21, 2004.

3. Shuweihat O&M Limited Partnership

[Docket No. EG04-28-000]

Take notice that on December 31, 2003, Shuweihat O&M Limited Partnership (Shuweihat O&M), Suite 302, Old GASCo Building, Al Kubeirah Street, Corniche West, Abu Dhabi, United Arab Emirates, filed with the Federal Energy Regulatory Commission an application for determination of exempt wholesale generator status pursuant to part 365 of the Commission's regulations. Shuweihat O&M states that it is a limited liability partnership that will engage directly or indirectly and exclusively in the business of owning and/or operating eligible facilities in the Emirate of Abu Dhabi, United Arab Emirates and selling electric energy at wholesale. Shuweihat O&M further states that it proposes to operate an approximately 1,500 megawatt combined-cycle electric and steam cogeneration facility located in Shuweihat, Abu Dhabi, United Arab Emirates.

Comment Date: January 21, 2004.

4. Jubail Energy Company

[Docket No. EG04-29-000]

Take notice that on December 31, 2003, Jubail Energy Company (Jubail), c/o CMS Enterprises Company, One Energy Plaza, Fifth Floor, Jackson, Michigan 49201, filed with the Federal Energy Regulatory Commission an application for determination of exempt wholesale generator status pursuant to part 365 of the Commission's regulations. Jubail states that it is a limited liability company that will engage directly or indirectly and exclusively in the business of owning and/or operating eligible facilities in Saudi Arabia and selling electric energy at retail exclusively to consumers outside the United States. Jubail further states that it proposes to own and operate an approximately 242 megawatt combined-cycle electric and steam cogeneration facility located in Jubail Industrial City in Saudi Arabia.

Comment Date: January 21, 2004.

5. Entergy-Koch Trading, LP, the Dayton Power & Light Company

[Docket Nos. ER01-2781-003 and ER96-2602-005]

Take notice that Entergy-Koch Trading, LP (EKT) and The Dayton Power and Light Company (DPLC) tendered for filing Notification of a non-material change in the Characteristics that the Commission relied upon in granting EKT and DPLC market-based rate authorization under section 205 of the Federal Power Act.

Comment Date: January 21, 2004.

6. PJM Interconnection, L.L.C.

[Docket No. ER02-1326-008]

Take notice that on December 31, 2003, the Market Monitoring Unit of PJM Interconnection, L.L.C. (PJM) submitted its report assessing the status of PJM's load response programs in compliance with the Commission's December 31, 2003, order, 104 FERC ¶ 61,188.

PJM states that copies of the filing have been served on each person on the official services list compiled by the Secretary in this proceeding.

Comment Date: January 21, 2004.

7. New England Power Pool

[Docket No. ER02-2330-023]

Take notice that on December 31, 2003, the New England Power Pool (NEPOOL) Participants Committee submitted its Report on Compliance in response to the requirements of the Commission's June 6, 2003, order, 103 FERC ¶ 61,304 (2003).

The NEPOOL Participants Committee states that copies of the filing were sent to all persons designated on the official service list in Docket No. ER02-2330-000.

Comment Date: January 21, 2004.

8. New England Power Pool

[Docket No. ER02-2330-024]

Take notice that on December 31, 2003, ISO New England Inc. (ISO) submitted an Independent Assessment of Demand Response Programs as directed by the Commission in its June 6, 2003, 103 FERC ¶ 61,304.

The ISO states that copies of the filing have been served on all parties to the above-captioned proceeding.

Comment Date: January 21, 2004.

9. PJM Interconnection, L.L.C.

[Docket No. ER03-262-014]

Take notice that on December 31, 2003, PJM Interconnection, L.L.C. (PJM) supplemented its previous filings in this docket with additional revisions under sections 205 and 206 of the Federal Power Act (FPA), 16 U.S.C. 824d and 824e, to the Amended and Restated Operating Agreement of PJM Interconnection, L.L.C., the PJM Open Access Transmission Tariff, and the PJM West Reliability Assurance Agreement Among Load-serving Entities in the PJM West Region, for the integration of Commonwealth Edison Company (including Commonwealth Edison Company of Indiana, Inc.) into PJM on May 1, 2004. PJM requests an effective date for these changes of May 1, 2004.

PJM states that copies of this filing have been served on all PJM members and utility regulatory commissions in the PJM Region and on all parties listed on the official service list compiled by the Secretary in this proceeding.

Comment Date: January 21, 2004.

10. New England Power Pool

[Docket No. ER04-345-002]

Take notice that on December 31, 2003, ISO New England Inc. (ISO) submitted a Status Report on Load Response Programs as directed by the Commission in its February 25, 2003, 102 FERC ¶ 61,202.

The ISO states that copies of the filing have been served on all parties to the above-captioned proceeding.

Comment Date: January 21, 2004.

11. Wisconsin Public Service Corporation

[Docket No. ER04-354-000]

Take notice that on December 31, 2003, Wisconsin Public Service Corporation (WPSC) tendered for filing an amendment to its February 22, 1993, Agreement with the City of Marshfield, Wisconsin concerning the ownership and operation of combustion turbine generation. WPSC states that the amendment implements a revision to the capacity rating of the West Marinette Unit. WPSC requests waiver of the Commission's regulations to permit the amendment to become effective on January 1, 2004.

Comment Date: January 21, 2004.

12. New England Power Pool

[ Docket No. ER04-357-000]

Take notice that on December 31, 2003, the New England Power Pool (NEPOOL) Participants Committee filed for acceptance materials to permit NEPOOL to expand its membership to include CAM Energy Products, LP (CAM), Emera Energy U.S. Subsidiary No. 1 Inc. (EE1), and Epic Merchant Energy, LP (Epic). The Participants Committee requests the following effective dates: January 1, 2004, for the commencement of participation in NEPOOL by Epic; February 1, 2004, for the commencement of participation in NEPOOL by CAM; and March 1, 2004, for the commencement of participation in NEPOOL by EEI.

The New England Power Pool Participants Committee states that copies of these materials were sent to the New England state governors and regulatory commissions and the Participants in NEPOOL.

Comment Date: January 21, 2004.

13. New England Power Pool

[Docket No. ER04-358-000]

Take notice that on December 31, 2003, the New England Power Pool (NEPOOL) Participants Committee, pursuant to the Commission's directives in the orders issued August 15, 2003, in Docket No. ER03-894 and April 30, 2003, in Docket No. EL03-25 submitted: (1) The Hydro-Quebec Interconnection Capability Credit (HQICC) values established by the Participants Committee for the 2004/2005 NEPOOL Power Year, (2) the procedural methodology to be used to establish HQICC values beginning with the 2005/2006 NEPOOL Power Year, and (3) related descriptive materials. NEPOOL seeks a June 1, 2004, effective date for the 2004/2005 Power Year HQICC Values.

The New England Power Pool Participants Committee states that copies of these materials were sent to the NEPOOL Participants and the New England state governors and regulatory commissions and the Participants in NEPOOL.

Comment Date: January 21, 2004.

14. Emera Energy U.S. Subsidiary No. 1, Inc.

[Docket No. ER04-359-000]

Take notice that on December 31, 2003, Emera Energy U.S. Subsidiary No. 1, Inc., petitioned the Commission: (1) For authorization to engage in the sale of electric energy and capacity at market-based rates, (2) to waive certain of the Commission's regulations, and (3) to grant certain blanket approvals.

Comment Date: January 21, 2004.

15. Tucson Electric Power Company

[ Docket No. ER04-360-000]

Take notice that on December 31, 2003, Tucson Electric Power Company (Tucson Electric) tendered for filing a Notice of Cancellation of its Market Rate Tariff for Affiliate Sales in Docket No. ER98-1150-000. Tucson Electric also seeks to cancel the codes of conduct filed with its market rate tariffs in Docket Nos. ER97-4514-000 and ER98-1150-000.

Comment Date: January 21, 2004.

16. PJM Interconnection, L.L.C.

[ Docket No. ER04-361-000]

Take notice that on December 31, 2003, PJM Interconnection, L.L.C. (PJM) submitted revisions to the PJM Open Access Transmission Tariff and the Amended and Restated Operating Agreement of PJM Interconnection, L.L.C. to provide market-based credits to generation owners that adjust active power output at PJM's direction to provide increased reactive support to the transmission system. PJM requests an effective date of January 1, 2004, for the proposed revisions.

PJM states that copies of the filing were served on all PJM members and on the regulatory commissions in the PJM region.

Comment Date: January 21, 2004.

17. Sierra Pacific Power Company

[ Docket No. ER04-362-000]

Take notice that on December 31, 2003, Sierra Pacific Power Company (Sierra) tendered for filing an amendment to the Amended and Restated Operating Agreement No. 2 between Sierra and Mt. Wheeler Power, Inc. Sierra states that the proposed amendment consists of additional language to permit Sierra to interconnect a wind project generator to Mt. Wheeler's Gondor 230kV substation bus. Sierra has requested a November 1, 2003, effective date.

Comment Date: January 21, 2004.

18. Jersey Central Power & Light Company

[Docket No. ER04-363-000]

Take notice that on December 31, 2003, Jersey Central Power & Light Company (JCP&L) tendered for filing a proposed tariff for the sale of power to wholesale purchasers at market-based rates. JCP&L has requested a December 17, 2003, effective date.

Comment Date: January 21, 2004.

19. American Electric Power Service Corporation, Commonwealth Edison Company, and Commonwealth Edison Company of Indiana, Inc.

[Docket No. ER04-364-000]

Take notice that on December 31, 2003, American Electric Power Service Corporation (AEP), Commonwealth Edison Company and Commonwealth Edison Company of Indiana, Inc. (ComEd) tendered for filing a proposed Schedule 13 Financial Hold Harmless for the tariff of PJM Interconnection, LLC (PJM), to be effective for each company upon the date it transfers function control of its transmission facilities to PJM. ComEd and AEP state that this filing, along with the Joint Operating Agreement filed concurrently by PJM and Midwest Independent System Operator, will fulfill the Commission's requirement to hold the Michigan and Wisconsin utilities harmless from adverse financial impacts from congestion and loop flow resulting from AEP's and ComEd's choice of PJM.

AEP and ComEd state that copies of the filing were served on the affected state commissions, and on parties listed on the service list in Docket No. EL02-65.

Comment Date: January 21, 2004.

20. Duke Energy Corporation

[Docket No. ER04-365-000]

Take notice that on December 31, 2003, Duke Energy Corporation (Duke) submitted for filing an amendment to the Interconnection Agreement between Duke and North Carolina Electric Membership Corporation (NCEMC). Duke requests an effective date of January 1, 2004, for the amendment.

Duke states that a copy of the filing has been served on representatives of NCEMC and the North Carolina Utilities Commission and the Public Service Commission of South Carolina.

Comment Date: January 21, 2004.

21. Jersey Central Power & Light Company

[Docket No. ER04-366-000]

Take notice that on December 31, 2003, Jersey Central Power & Light Company (JCP&L) tendered for filing a proposed tariff for the sale of power to wholesale purchasers at market-based rates (Tariff). JCP&L has asked for waiver of any applicable requirements in order to make the Tariff effective as of December 17, 2003.

Comment Date: January 21, 2004.

22. PJM Interconnection, L.L.C., Commonwealth Edison Company

[ Docket No. ER04-367-000]

Take notice that on December 31, 2003, PJM Interconnection, L.L.C. and Commonwealth Edison Company submitted a transmittal letter and certain revised tariff sheets to the PJM Open Access Transmission Tariff. PJM and ComEd state that the revised tariff sheets are necessary to include ComEd as a transmission owner within PJM. PJM and ComEd request that the tariff sheets become effective on May 1, 2004.

PJM and ComEd state that copies of this filing have been served on the members of PJM, the Illinois Commerce Commission, and on all parties on the Commission's service list in Docket No. ER03-262-000.

Comment Date: January 21, 2004.

23. California Independent System Operator Corporation

[ Docket No. ER04-370-000]

Take notice that on December 31, 2003, the California Independent System Operator Corporation (ISO) submitted an informational filing as to the ISO's updated Transmission Access Charge Rates effective as of January 1, 2004.

The ISO states that this filing has been served upon the Public Utilities Commission of the State of California, the California Energy Commission, the California Electricity Oversight Board, the Participating Transmission Owners, and upon all parties with effective Scheduling Coordinator Service Agreements under the ISO tariff. ISO further states that it is posting the filing on the ISO Home Page.

Comment Date: January 21, 2004.

24. San Diego Gas & Electric Company

[Docket No. ER04-371-000]

Take notice that on December 31, 2003, San Diego Gas & Electric (SDG&E) tendered for filing a change in rates for the Transmission Revenue Balancing Account Adjustment and its Transmission Access Charge Balancing Account Adjustment set forth in its Transmission Owner Tariff. SDG&E states that the effect of this rate change is to reduce rates for jurisdictional transmission service utilizing that portion of the California Independent System Operator-controlled grid owned by SDG&E. SDG&E requests that this rate change be made effective January 1, 2004.

SDG&E states that copies of this filing were service upon the Public Utilities Commission of the State of California and on the California Independent System Operator Corporation.

Comment Date: January 21, 2004.

25. Metropolitan Edison Company Pennsylvania Electric Company

[Docket No. ER04-372-000]

Take notice that on December 31, 2003, Metropolitan Edison Company and Pennsylvania Electric Company (collectively, MetEd/Penelec) tendered for filing a proposed tariff for the sale of power either individually or collectively to wholesale purchasers at market-based rates (Tariff). MetEd/Penelec have asked for waiver of any applicable requirements in order to make the Tariff effective as of December 17, 2003.

Comment Date: January 21, 2004.

26. Williams Power Company, Inc.

[Docket No. ER04-373-000]

Take notice that on December 31, 2003, Williams Power Company, Inc., (WPC) submitted a Schedule F Informational Filing under its Reliability Must-Run Service Agreements with the California Independent System Operator Corporation (ISO) for Alamitos and Huntington Beach generating facilities, Williams Power Rate Schedules FERC Nos. 17 and 19 respectively. WPC also submitted revised tariff pages reflecting the Schedule F Informational Filing.

WPC states that copies of this filing have been served upon the ISO, the California Electricity Oversight Board, Southern California Edison Company and the California Public Utilities Commission.

Comment Date: January 21, 2004.

27. Invenergy TN LLC

[Docket No. ER04-374-000]

Take notice that on December 31, 2003, Invenergy TN LLC tendered for filing an application for acceptance of an initial rate schedule authorizing it to sell energy, capacity, and ancillary services at market-based rates pursuant to section 205 of the Federal Power Act, and to resell transmission rights. Invenergy TN LLC requests the waivers and blanket authorizations typically granted to market-based rate sellers, and requests that its market-based rate authorization be made effective as of June 1, 2004.

Comment Date: January 21, 2004.

28. Midwest Independent Transmission System Operator, Inc., PJM Interconnection, L.L.C.

[Docket No. ER04-375-000]

Take notice that on December 31, 2003, the Midwest Independent Transmission System Operator, Inc. (Midwest ISO) and PJM Interconnection, L.L.C. (PJM), submitted for filing a Joint Operating Agreement Between Midwest ISO and PJM. Midwest ISO and PJM requests an effective date of March 1, 2004.

Midwest ISO and PJM state that copies of this filing were served upon all Midwest ISO members and all PJM members, and each state electric utility regulatory commission in their respective regions.

Comment Date: January 21, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-72 Filed 01-15-04; 8:45 am]

BILLING CODE 6717-01-P